DEPARTMENT OF THE INTERIOR

Bureau of Indian Affairs

[234A2100DD/AAKC001030/A0A501010.999900]

Land Acquisitions; Cayuga Nation, Cayuga County Parcels, Cayuga County, New York

AGENCY: Bureau of Indian Affairs, Interior.

ACTION: Notice.

SUMMARY: The Assistant Secretary—Indian Affairs made a final agency determination to acquire in trust 113.96 acres, more or less, of land known as the Cayuga County Parcels in the Village of Union Springs and the Town of Springport, Cayuga County, New York, (Site) for the Cayuga Nation, (Tribe) for gaming and other purposes.

DATES: This final determination was made on March 29, 2023.

FOR FURTHER INFORMATION CONTACT: Ms. Paula L. Hart, Director, Office of Indian Gaming, Mailstop 3543, 1849 C Street NW, Washington, DC 20240, paula.hart@bia.gov, (202) 219-4066.

SUPPLEMENTARY INFORMATION: On the date listed in the DATES section of this notice, the Assistant Secretary—Indian Affairs made a final agency determination to acquire the Site, consisting of 113.96 acres, more or less, in trust for the Tribe under the authority of the Indian Reorganization Act of June 18, 1934, 25 U.S.C. 5108. The Assistant Secretary—Indian Affairs, on behalf of the Secretary of the Interior, will immediately acquire title to the Site in the name of the United States of America in trust for the Tribe upon fulfillment of all Departmental requirements. The 113.96 acres, more or less, are described as follows:

Tax Lot No. 134.17-1-1.51 (Approximately 106.960 Acres)

All that tract or parcel of land situate in the Town of Springport, Village of Union Springs, County of Cayuga and State of New York, being a part of Lot No. 92 in said Town, bounded and described as follows:

Beginning at a point in the west line of New York State Route No. 90 at the northeast corner of lands of Cayuga Nation of New York as recorded in the Cayuga County Clerk's Office in liber 1129 of deeds at page 225

Thence; North 83°30′22″ West, along the north line of said lands of Cayuga Nation of New York, a distance of 371.99 feet to the northwest corner of said lands of Cayuga Nation of New York

Thence; South 04°50′25″ West, along the west line of said lands of Cayuga Nation of New York, a distance of 160.00 feet to a point in the north line of Union Hose and Engine Company as recorded in the Cayuga County Clerk's Office in liber 860 of deeds at page 232

Thence; North 83°30′22″ West, along the north line of said lands of Union Hose and Engine Company, a distance of 799.54 feet to the northwest corner of said lands of Union Hose and Engine Company

Thence; South 05°25′45″ West, along the west line of said lands of Union Hose and Engine Company and other lands of Union Hose and Engine Company as recorded in the Cayuga County Clerk's Office in liber 697 of deeds at page 231, a distance of 534.30 feet to a point in the south line of aforesaid Lot No. 92

Thence; North 83°30′22″ West, along the said south line of Lot No. 92, a distance of 1475.56 feet to a point

Thence; North 01°58′30″ East, a distance of 418.74 feet to a point

Thence; North 83°31′30″ West, a distance of 81.00 feet to a point in the former east line of Lehigh Valley Railroad

Thence; North 01°58′30″ East, along the said former east line of Lehigh Valley Railroad, a distance of 387.06 feet to a point

Thence; North 01°06′13″ East, continuing along the said former east line of Lehigh Valley Railroad, a distance of 484.62 feet to a point

Thence; North 04°48′31″ West, continuing along the said former east line of Lehigh Valley Railroad, a distance of 733.54 feet to a point in the north line of aforesaid Lot No. 92

Thence; South 83°18′47″ East, along the said north line of Lot No. 92, a distance of 2484.27 feet to the northwest corner of lands of Cayuga Nation of New York as recorded in the Cayuga County Clerk's Office in liber 1129 of deeds at page 222

Thence; South 00°54′40″ East, along the west line of said lands of Cayuga Nation of New York, a distance of 176.89 feet to a point

Thence; South 04°15′56″ East, continuing along the west line of said lands of Cayuga Nation of New York, a distance of 135.00 feet to the southwest corner of said lands of Cayuga Nation of New York

Thence; North 85°44′04″ East, along the south line of said lands of Cayuga Nation of New York, a distance of 117.00 feet to a point

Thence; South 04°15′56″ East, a distance of 173.22 feet to a point

Thence; South 01°15′36″ East, a distance of 200.00 feet to a point

Thence; North 89°40′33″ East, a distance of 199.62 feet to a point in the aforesaid west line of New York State Route No. 90

Thence; South 01°15′36″ East, along the said west line of New York State Route No. 90, a distance of 305.60 feet to a point

Thence; South 01°50′03″ West, continuing along the said west line of New York State Route No. 90, a distance of 184.98 feet to a point

Thence; South 04°50′25″ West, continuing along the said west line of New York State Route No. 90, a distance of 184.59 feet to the point and place of beginning

Containing 4,659,193.3 square feet or 106.960 acres of land, more or less.

Tax Lot No. 134.17-1-1.21 (Approximately 1.024 Acres More or Less)

All that tract or parcel of land situate in the Town of Springport, Village of Union Springs, County of Cayuga and State of New York, being a part of Lot No. 92 in said Town, bounded and described as follows:

Beginning at the intersection of the north line of said Lot No. 92 and the present west line of New York State Route No. 90

Thence; South 06°35′57″ East, along the said present west line of New York State Route No. 90, a distance of 120.03 feet to a point in the said present west line of New York State Route No. 90

Thence; South 85°44′04″ West, a distance of 308.04 feet to a point in the east line of lands of Cayuga Nation of New York as recorded in the Cayuga County Clerk's Office in liber 1208 of deeds at page 236

Thence; North 00°54′40″ West, along the said east line of lands of Cayuga Nation of New York, a distance of 176.89 feet to a point in the aforesaid north line of Lot No. 92

Thence; South 83°18′47″ East, along the said north line of Lot No. 92, a distance of 298.24 feet to the point and place of beginning

Containing 44,618.1 square feet or 1.024 acres, more or less

Tax Lot No. 134.17-1-1.121 (Approximately 0.963 Acres)

All that tract or parcel of land situate in the Town of Springport, Village of Union Springs, County of Cayuga and State of New York, being a part of Lot No. 92 in said Town, bounded and described as follows:

Beginning at a point in the present west line of New York State Route No. 90, said point being located South 06°35′57″ East, a distance of 120.03 feet from the intersection of the said present west line of New York State Route No. 90 with the north line of said Lot No. 92

Thence; South 06°35′57″ East, along the said present west line of New York State Route No. 90, a distance of 135.11 feet to the northeast corner of lands of David J. Rouse Jr. & Lisa A. Rouse, now or formerly, as recorded in the Cayuga County Clerk's Office in liber 1244 of deeds at page 171

Thence; South 85°44′04″ West, along the north line of said lands of David J. Rouse Jr. & Lisa A. Rouse and the westerly prolongation thereof, a distance of 313.54 feet to a point

Thence; North 04°15′56″ West, a distance of 135.00 feet to a point

Thence; North 85°44′04″ East, a distance of 308.04 feet to the point and place of beginning

Containing 41,957.0 square feet or 0.963 acres of land, more or less

Tax Lot No. 141.05-1-3 (Approximately 1.366 Acres)

All that tract or parcel of land situate in the Town of Springport, Village of Union Springs, County of Cayuga and State of New York, being a part of Lot No. 92 in said Town, bounded and described as follows:

Beginning at a point in the north line of lands of Union Hose & Engine Company as recorded in the Cayuga County Clerk's Office in liber 860 of deeds at page 232, said point being located South 83°30′22″ East, a distance of 799.54 feet from an existing rebar at the northwest corner of said lands of Union Hose & Engine Company

Thence; North 04°50′25″ East, a distance of 160.00 feet to a point

Thence; South 83°30′22″ East, a distance of 371.99 feet to a point in the west line of New York State Route No. 90

Thence; South 04°50′25″ West, along the said west line of New York State Route No. 90, a distance of 160.00 feet to a point in the aforesaid north line of lands of Union Hose & Engine Company

Thence; North 83°30′22″ West, along the said north line of lands of Union Hose & Engine Company, a distance of 371.99 feet to the point and place of beginning

Containing 59,493.0 square feet or 1.366 acres of land, more or less

Tax Lot No. 150.00-1-29.1 (Approximately 3.654 Acres)

All that tract or parcel of land situate in the Town of Springport, County of Cayuga and State of New York, being part of Great Lot No. 7 of the East Cayuga Reservation, bounded and described as follows:

Beginning at a point in the present west line of New York State Route No. 90 as established by New York State Appropriation Map No. 31, Parcel No. 40 at the intersection of said west line of New York State Route No. 90 with the north line of lands of Patricia L. Thornton and David J. Thornton as recorded in the Cayuga County Clerk's Office in liber 999 of deeds at page 292

Thence; South 85°55′53″ West, along the said north line of said lands of Patricia L. Thornton and David J. Thornton and continuing along the north line of lands of Robert C. Butler and Karolyn A. Butler as recorded in the Cayuga County Clerk's Office in liber 1012 of deeds at page 291, and also lands of Robert A. Markert and Kathleen M. Markert as recorded in the Cayuga County Clerk's Office in liber 1409 of deeds at page 244, a distance of 681.61 feet to a point in the east line of lands of Walter J. McDonald, now or formerly, as recorded in the Cayuga County Clerk's Office in liber 720 of deeds at page 338

Thence; northeasterly, along the said east line of lands of Walter J. McDonald on a curve to the left with a radius of 1891.50 feet, a distance of 292.17 feet to the southwest corner of lands of Lorie K. Fischer and Todd R. Fischer as recorded in the Cayuga County Clerk's Office in liber 1183 of deeds at page 206. Said curve having a chord bearing of North 23°09′17″ East and a chord distance of 291.88 feet

Thence; North 85°55′53″ East, along the said south line of said lands of Lorie K. Fischer and Todd R. Fischer, a distance of 553.31 feet to a point in the aforesaid present west line of New York State Route No. 90

Thence; South 02°54′59″ East, along the said present west line of New York State Route No. 90, a distance of 259.60 feet to the point and place of beginning

Containing 159,162.6 square feet or 3.654 acres of land, more or less

Authority: This notice is published in the exercise of authority delegated by the Secretary of the Interior to the Assistant Secretary—Indian Affairs by 209 Departmental Manual 8.1, and is published to comply with the requirements of 25 CFR 151.12 (c)(2)(ii) that notice of the decision to acquire land in trust be promptly provided in the Federal Register.

Bryan Newland,
Assistant Secretary—Indian Affairs.

[FR Doc. 2023-06979 Filed 4-3-23; 8:45 am]

BILLING CODE 4337-15-P